DEPARTMENT OF THE TREASURY

Internal Revenue Service

Software Developers Conference

AGENCY: Internal Revenue Service (IRS), Treasury.

ACTION: Software Developers Conference notification.

SUMMARY: The Software Developers Conference will be held on June 5-6, 2003. The conference will be held in the Hyatt Regency Hotel, Crystal City, Arlington, VA. A summary of the agenda along with the planned discussion topics is listed below.

Summarized Agenda for June 5, 2003

8 a.m. Conference Begins;

12 p.m. Break for Lunch;

1 p.m. Conference Resumes;

4:30 p.m. Conference Adjourns.

The planned discussion topics are as follows: Form 1040 e-file Update; Business e-file Returns Update; Privacy/Security; Fraud Prevention; Free File Update.

Summarized Agenda for June 6, 2003

8 a.m. Conference Begins;

12 p.m. Break for Lunch;

1 p.m. Conference Resumes;

4:30 p.m. Conference Adjourns.

The planned discussion topics are as follows: IRS e-file of the Future; Breakout Group Discussions.

Note: Last minute changes to these topics are possible and could prevent advance notice.

DATES: There will be a Software Developers Conference on Thursday and Friday, June 5 and 6, 2003. This conference will be held in a room that accommodates approximately 200 people, including IRS officials.

ADDRESSES: The meeting will be held in the Hyatt Regency Crystal City, 2799 Jefferson Davis Highway, Arlington, VA 22202.

FOR FURTHER INFORMATION CONTACT: Registration for the Software Developers Conference may be accessed at http://www.paintl.com. Registration should be received by May 14, 2003.

If you need additional information you may contact Aaron R. Welch at 202-283-0298 or aaron.r.welch@irs.gov (e-mail).

SUPPLEMENTARY INFORMATION: The IRS Software Developers Conference provides information and dialogue on issues of interest to IRS e-file software developers.

Dated: April 11, 2003.
Terence H. Lutes,
Director, Electronic Tax Administration.

[FR Doc. 03-9518 Filed 4-16-03; 8:45 am]

BILLING CODE 4830-01-P